DEPARTMENT OF LABOR

Employment and Training Administration

[TA-W-81,351]

Truseal Technologies, Inc., A Division of Quanex Building Products Corporation, Barbourville, Kentucky; Notice of Negative Determination on Reconsideration

On April 27, 2012, the Department of Labor issued an Affirmative Determination Regarding Application for Reconsideration for the workers and former workers of Truseal Technologies, a Division of Quanex Building Products Corporation, Barbourville, Kentucky (subject firm). The subject firm produces flashing used in building construction and sealants used in window and door products and photovoltaic panels. Workers are not separately identifiable by article produced.

The negative determination was based on the Department's findings of no subject firm sales or production declines and no shift of production to a foreign country.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The request for reconsideration alleges that the subject firm has shifted to Germany the production of articles like or directly competitive with the flashing and sealant produced by the subject firm and that this information was provided by a company official.

During the reconsideration investigation, the Department received confirmation from the subject firm of no shift to (or acquisition from) a foreign country the production of articles like or directly competitive with the flashing and sealant produced by the subject firm. Rather, the subject firm consolidated production to an existing, affiliated domestic facility.

During the reconsideration investigation, the Department also contacted the company official identified in the request for reconsideration. The company official clarified that, while the subject firm does have a facility in Germany, there was no shift in production to any facility than the Cambridge, Ohio facility and the workers who filed the request for reconsideration had misunderstood him.

Previously-submitted information revealed that subject firm employment, sales, and production did not decline prior to the plant closure in August 2012. Rather, employment, sales, and production increased in 2011 from 2010 levels.

Therefore, after careful review of previously-submitted information, the request for reconsideration, and information obtained during reconsideration investigation, the Department determines that 29 CFR 90.18(c) has not been met.

Conclusion

After careful reconsideration, I affirm the original notice of negative determination of eligibility to apply for worker adjustment assistance for workers and former workers of Truseal Technologies, a Division of Quanex Building Products Corporation, Barbourville, Kentucky.

Signed in Washington, DC on this 27th day of September, 2012.
Del Min Amy Chen,
Certifying Officer, Office of Trade Adjustment Assistance.

[FR Doc. 2012-25136 Filed 10-11-12; 8:45 am]

BILLING CODE 4510-FN-P